DEPARTMENT OF THE INTERIOR

Bureau of Land Management

Colorado: Filing of Plats of Survey

September 30, 2008.

Summary: The plats of survey of the following described land will be officially filed in the Colorado State Office, Bureau of Land Management, Lakewood, Colorado, effective 10 a.m., September 30, 2008. All inquiries should be sent to the Colorado State Office (CO-956), Bureau of Land Management, 2850 Youngfield Street, Lakewood, Colorado 80215-7093.

The supplemental plat of section 24, in Township 15 South, Range 70 West, Sixth Principal Meridian, Colorado was accepted on April 17, 2008.

The plat, in duplicate, of the entire record, of the dependent resurvey, in Township 6 North, Range 93 West, Sixth Principal Meridian, Colorado, was accepted on June 19, 2008.

The supplemental plat in sections 23, 24, 26, 27 of Township 13 South, Range 82 West, Sixth Principal Meridian, Colorado, was accepted on June 25, 2008.

The plat and field notes, in duplicate, of the dependent resurvey and surveys in Township 35 North, Ranges 11 and 12 West, of the New Mexico Principal Meridian, Colorado, were accepted on August 26, 2008.

The plat (in seven sheets) and field notes, in duplicate, of the dependent resurvey and the resurvey of certain mineral surveys in section 19, Township 1 North, Range 71 West, Sixth Principal Meridian, Colorado, were accepted on September 9, 2008.

The plat and field notes, in duplicate, of the dependent resurvey and section subdivision in Township 43 North, Range 10 East, New Mexico Principal Meridian, Colorado, and the plat (in 3 sheets) and field notes, in duplicate of the dependent resurvey of a portion of the north and west boundaries of the Luis Maria Baca Land Grant No. 4, a portion of the south boundary of Township 43 North, Range 11 East, and the metes-and-bounds survey of the north, east, and a portion of the west boundary of the Baca National Wildlife Refuge within the Luis Maria Baca Land Grant No. 4, in the state of Colorado were accepted on September 12, 2008.

The plat and field notes, in duplicate, of the dependent resurvey and survey, in section 33, Township 22 South, Range 69 West, Sixth Principal Meridian, Colorado, were accepted on September 16, 2008.

The plat and field notes, in duplicate, of the dependent resurvey of a portion of the west boundary and subdivisional lines and the subdivision of section 7, in Township 21 South, Range 71 West, Sixth Principal Meridian, Colorado, were accepted on September 17, 2008.

The plat and field notes, in duplicate, of the dependent resurvey and surveys in Township 50 North, Range 9 West, New Mexico Principal Meridian, Colorado, were accepted on September 22, 2008.

The plat and field notes, in duplicate, of the dependent resurvey and section subdivision of sections 14, 23 and 26, Township 45 North, Range 6 East, New Mexico Principal Meridian, Colorado, were accepted on September 23, 2008.

Randall M. Zanon,
Chief Cadastral Surveyor for Colorado.

[FR Doc. E8-23875 Filed 10-8-08; 8:45 am]

BILLING CODE 4310-JB-P